NUCLEAR REGULATORY COMMISSION

[NRC-2018-0038]

10 CFR Chapter I

Clarification of the Requirements for Reactor Pressure Vessel Upper Head Bare Metal Visual Examinations

AGENCY: Nuclear Regulatory Commission.

ACTION: Regulatory issue summary; issuance.

SUMMARY: The U.S. Nuclear Regulatory Commission (NRC) is issuing Regulatory Issue Summary (RIS) 2018-06, “Clarification of the Requirements for Reactor Pressure Vessel Upper Head Bare Metal Visual Examinations.” This RIS is intended to clarify the requirements for bare-metal visual examination, which can be either a visual examination of the bare metal of the upper head or a visual testing (VT)-2 examination under the insulation to meet the requirements of notes 1 and 4 in Table 1 of American Society of Mechanical Engineers (ASME) Code Case N-729-4, “Alternative Examination Requirements for PWR Reactor Vessel Upper Heads with Nozzles Having Pressure-Retaining Partial-Penetration Welds Section XI, Division 1.” This RIS requires no action or written response on the part of an addressee.

DATES: The RIS is available as of December 20, 2018.

ADDRESSES: Please refer to Docket ID NRC-2018-0038 when contacting the NRC about the availability of information regarding this document. You may obtain publicly-available information related to this document using any of the following methods:

• Federal Rulemaking Website: Go to http://www.regulations.gov and search for Docket ID NRC-2018-0038. Address questions about Docket IDs in Regulations.gov to Krupskaya Castellon; telephone: 301-287-9221; email: Krupskaya.Castellon@nrc.gov. For technical questions, contact the individual(s) listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The Clarification of the Requirements for Reactor Pressure Vessel Upper Head Bare Metal Visual Examinations and Response to Public Comments on Draft Regulatory Issue Summary 2018-XX, “Clarification of the Requirements for Reactor Pressure Vessel Upper Head Bare Metal Visual Examinations” are available in ADAMS under Accession Nos. ML18178A137 and ML18178A140.

• NRC's PDR: You may examine and purchase copies of public documents at the NRC's PDR, Room O1-F21, One White Flint North, 11555 Rockville Pike, Rockville, Maryland 20852.

• This RIS is also available on the NRC's public website at http://www.nrc.gov/reading-rm/doc-collections/gen-comm/reg-issues/ (select “2018” and then select “RIS-18-06”).

FOR FURTHER INFORMATION CONTACT: Stephen Cumblidge, Office of Nuclear Reactor Regulation, U.S. Nuclear Regulatory Commission, Washington, DC 20555-0001; telephone: 301-415-2823, email: Stephen.Cumblidge@nrc.gov.

SUPPLEMENTARY INFORMATION: The NRC published notification of opportunity for public comment on this RIS in the Federal Register (83 FR 10407) on March 9, 2018. The agency received comments from four commenters. The staff considered all comments, which resulted in minor clarifications to the RIS. The evaluation of these comments and the resulting changes to the RIS are discussed in a publicly available memorandum which is in ADAMS under Accession No. ML18178A140.

As noted in 83 FR 20858 (May 8, 2018), this document is being published in the Rules section of the Federal Register to comply with publication requirements under 1 CFR chapter I.

Dated at Rockville, Maryland, this 17th day of December 2018.
For the Nuclear Regulatory Commission.
Brian J. Benney,
Senior Project Manager, ROP Support and Generic Communications Branch, Division of Inspection and Regional Support, Office of Nuclear Reactor Regulation.

[FR Doc. 2018-27517 Filed 12-19-18; 8:45 am]

BILLING CODE 7590-01-P